DEPARTMENT OF COMMERCE

National Oceanic and Atmospheric Administration

50 CFR Part 600

RIN 0648-BB92

Magnuson-Stevens Act Provisions; National Standard Guidelines; Meeting Announcement

AGENCY: National Marine Fisheries Service (NMFS), National Oceanic and Atmospheric Administration (NOAA), Commerce.

ACTION: Notice of public meeting.

SUMMARY: NMFS announces a public meeting to solicit comments on the proposed revisions to the General section of the National Standard (NS) guidelines and the guidelines for NS1, NS3, and NS7 of the Magnuson-Stevens Fishery Conservation and Management Act (MSA), which published January 20, 2015.

DATES: The meeting will be held on March 25, 2015, from 2:00 p.m. to 4:00 p.m. Eastern time. Written comments accepted through June 30, 2015.

ADDRESSES: The meeting will be held at the following location: The NOAA Science Center, 1301 East West Highway, Silver Spring, MD, 20910; telephone: 301-427-8563.

You may submit written comments on the proposed rule, identified by NOAA-NMFS-2012-0059, by any of the following methods:

• Electronic Submission: Submit all electronic public comments via the Federal e-Rulemaking Portal. Go to: www.regulations.gov/#!docketDetail;D=NOAA-NMFS-2012-0059, click the “Comment Now!” icon, complete the required fields, and enter or attach your comments.

• Mail: Submit written comments to Wesley Patrick, National Marine Fisheries Service, NOAA, Office of Sustainable Fisheries, 1315 East-West Highway, Room 13357, Silver Spring, MD 20910.

• Fax: 301-713-1193; Attn: Wesley Patrick.

FOR FURTHER INFORMATION CONTACT: Wesley Patrick at (301) 427-8563 or via email at Wesley.Patrick@noaa.gov.

SUPPLEMENTARY INFORMATION: On January 20, 2015, NMFS published proposed revisions to the General section of the National Standard (NS) guidelines and the guidelines for NS1, NS3, and NS7 in the Federal Register (80 FR 2786). The proposed revisions include the following: (1) Add a recommendation that Councils reassess the objectives of their fisheries on a regular basis; (2) consolidate and clarify guidance on identifying whether stocks require conservation and management; (3) provide additional flexibility in managing data limited stocks; (4) revise the guidance on stock complexes to encourage the use of indicator stocks; (5) describe how aggregate maximum sustainable yield (MSY) estimates can be used; (6) propose a definition for a depleted stock; (7) provide increased stability in fisheries by providing guidance on the use of multi-year overfishing determinations; (8) revise the guidance on optimum yield (OY) to improve clarity and better describe the role of OY under the Annual Catch Limit (ACL) framework; (9) clarify the guidance on acceptable biological catch (ABC) control rules, describe how the ABC control rules can allow for phase-in adjustments to ABC, and allow for carry-over of all or some of an unused portion of the ACL; (10) revise the guidance on accountability measures (AMs) to improve clarity; (11) clarify the guidance on establishing ACL and AM mechanisms in FMPs; and (12) provide flexibility in rebuilding stocks. Additional information about this proposed rule can be found at http://www.nmfs.noaa.gov/sfa/laws_policies/national_standards/ns1_revisions.html.

Special Accommodations

These meetings are accessible to people with disabilities. Requests for sign language interpretation or other aids, and requests for special accommodations or needs should be directed to Wesley Patrick at (301) 427-8563 at least 5 business days in advance of the meeting date.

Authority: 5 U.S.C. 561 and 16 U.S.C. 1801 et seq.

Dated: February 6, 2015.
Emily H. Menashes,
Acting Director, Office of Sustainable Fisheries, National Marine Fisheries Service.

[FR Doc. 2015-02889 Filed 2-10-15; 8:45 am]

BILLING CODE 3510-22-P